ENVIRONMENTAL PROTECTION AGENCY

[OPPT-2002-0071; FRL-7294-4]

Request for Proposals for Pollution Prevention Information Network FY 2003; Notice of Funds Availability

AGENCY: Environmental Protection Agency (EPA).

ACTION: Notice.

SUMMARY: EPA's Office of Pollution Prevention and Toxics expects to have approximately $1 million available in fiscal year 2003, subject to the availability of funds at the time of the award, to fund grant proposals supporting a nationwide network of pollution prevention information providers. The Pollution Prevention Act of 1990 provides for funding to States to strengthen the efficiency and effectiveness of State technical assistance programs in providing source reduction information to businesses. The Pollution Prevention Information Network grants seek to coordinate work among technical assistance providers to minimize duplication of effort and improve information collection, synthesis and dissemination, and training for the promotion of pollution prevention techniques. These funds will be targeted for regional applicants that are willing to work as part of a collective nationwide service. Grantees will make their information available electronically, publically report use of their services, and utilize State and local representatives to guide and evaluate their services. Cooperative agreements will be awarded under the authority of the Pollution Prevention Act of 1990. Substantial involvement by EPA in the cooperative agreement may include: The EPA project officer participating in monthly conference calls, consulting on the agenda for regional meetings, or attending steering committee meetings, etc.

DATES: All grant proposals must be received on or before May 20, 2003.

ADDRESSES: Proposals may be submitted electronically, by mail or through hand delivery/courier. Please follow the detailed instructions as provided in Unit I. of the SUPPLEMENTARY INFORMATION.

FOR FURTHER INFORMATION CONTACT: Beth Anderson, Pollution Prevention Division (7409M), Office of Pollution Prevention and Toxics, Environmental Protection Agency, 1200 Pennsylvania Ave., NW., Washington, DC 20460-0001, telephone number: (202) 564-8833; fax number: (202) 564-8899; e-mail address: Anderson.Beth@epa.gov.

SUPPLEMENTARY INFORMATION:

I. General Information

A. Does this Action Apply to Me?

This action is directed to the 50 States, the District of Columbia, the U.S. Virgin Islands, the Commonwealth of Puerto Rico, any territory of or possession of the United States, any agency or instrumentality of a State including State universities, and Indian tribes and intertribal consortia. If you have any questions regarding the applicability of this action to a particular entity, contact the person listed under FOR FURTHER INFORMATION CONTACT.

B. How Can I Get Additional Information, Including Copies of this Document or Other Related Documents?

1. Docket. EPA has established an official public docket for this action under docket identification (ID) number OPPT-2002-0071. The official public docket consists of the documents specifically referenced in this action. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/. This document will also be available at the EPA P2 web site http://www.epa.gov/p2.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and To Whom Do I Submit a Proposal?

You may submit a proposal by mail, electronically or by courier.

1. Electronically. By e-mail to: Anderson.Beth@epa.gov. If you submit an electronic proposal, include your name, mailing address, an e-mail address and telephone number. Also include this contact information on the outside of any disk or CD ROM you submit, and in any cover letter accompanying the disk or CD ROM. This ensures that you can be identified as the submitter of the proposal and allows EPA to contact you in case EPA cannot read your proposal due to technical difficulties or needs further information.

2. By mail. Send your proposal to: Beth Anderson, Office of Pollution Prevention and Toxics, Mail Code 7409M, Environmental Protection Agency, 1200 Pennsylvania Ave., NW., Washington, DC 20460-0001.

3. By hand delivery or courier. Deliver your proposal to: Beth Anderson, Environmental Protection Agency-East, Room 5213, 1201 Constitution Ave., NW., Washington, DC 20004.

II. Description of the Pollution Prevention Information Network Grant Program

1. Purpose. Prior to this EPA grant program, there were few mechanisms to coordinate development, review, and dissemination of pollution prevention (P2) information among Federal, State, and local agencies involved in promoting source reduction technologies. Access to P2 information and assistance varied across the United States. Even now, not all programs providing assistance to small businesses have access to P2 information that may be useful and relevant to their clientele. EPA believes that investing in coordinating and standardizing P2 information collection and synthesis will benefit State P2 technical assistance providers, EPA supported compliance assistance centers (more information at http://www.assistancecenters.net), and other Federal programs such as: Small Business Development Centers and the National Institute of Standards and Technology Manufacturing Extension Partnerships. EPA is seeking to provide more efficient support to P2 technical assistance providers by supporting regional centers that have specialized areas of information they collect and disseminate. Regional centers can be more responsive to the information needs of their States and allow States to focus resources on their unique issues. EPA believes that some of the benefits of a coordinated P2 information network are:

i. Improved access to P2 information for all State and Federal business assistance programs.

ii. Improved coordination in the creation of P2 outreach materials allows States to use or revise existing P2 information.

iii. Increased number of partnerships among P2 clients and the regional P2 information center, increased information sharing and P2 services.

2. Program history. EPA awarded nine grants in response to the first Federal Register Notice on the establishment of a Pollution Prevention Information Network published on February 5, 1997 (62 FR 5393) (FRL-5582-5). The 9 grantees represented all 10 of the EPA Regions. These regional P2 information centers were usually only partially funded by this grant program and represent a variety of organizations. Some of the grantees were also funded by other Federal technical assistance programs, such as the Small Business Administration, the National Institute of Standards and Technology Manufacturing Extension Partnership, State and local governments, or their Regional EPA office. The first solicitation for this grant program was intended to establish new regional centers (where needed) or give additional funds to existing centers to:

i. Improve communication among centers.

ii. Minimize duplication of efforts in creating and disseminating P2 information.

iii. Promote information standards that would facilitate P2 information dissemination nationwide.

Over the first 2 years of the grant program (1998 and 1999), grantees enhanced networking among centers and improved nationwide interaction on P2 information projects through monthly conference calls, biannual meetings, websites, listserves and data bases. Frequent communication built familiarity with other regional resources and their mode of operation. The grantees formed a group called the “Pollution Prevention Resource Exchange” (P2Rx). More information about the P2Rx centers can be found on the Internet at: http://www.p2rx.org. For more detail on the projects the group is working on, go to this link http://www.p2rx.org/AdminInfo/toc.cfm and click on “Action Plans-By Project” in the left hand column.

After the second Federal Register Notice was published on November 12, 1999 (64 FR 61637) (FRL-6391-3), announcing the availability of funds for regional center proposals, eight regional centers were funded. All of the FY 2000 grantees had been previously funded under the first solicitation, so there was continuity in the collaborative efforts between the centers, as well as continuity in support from the State and local governments being served by the centers.

One of the regional centers serves as “P2Rx program coordinator” with a 2-year term of service. The P2Rx program coordinator receives additional funding for tasks such as: Facilitating frequent communication among regional centers, developing consensus among the centers, coordinating subcommittees and the development of standards, and providing meeting and training services for center staff. New grantees will be included in P2Rx national meetings, monthly conference calls, subcommittees, trainings, and other activities supporting the national products this group agrees to develop.

3. Authorizing statute. This solicitation is made under the Pollution Prevention Act of 1990, (the Act) (Public Law 101-508) which established as national policy that pollution should be prevented or reduced at the source whenever feasible. Section 6603 of the Act defines source reduction as any practice that:

i. Reduces the amount of any hazardous substance, pollutant, or contaminant entering any waste stream or otherwise released into the environment (including fugitive emissions) prior to recycling, treatment, or disposal.

ii. Reduces the hazards to public health and the environment associated with the release of such substances, pollutants, or contaminants.

EPA further defines P2 as the use of other practices that reduce or eliminate the creation of pollutants through: Increased efficiency in the use of raw materials, energy, water or other resources, protection of natural resources, or protection of natural resources by conservation. Section 6605 of the Act authorizes EPA to make matching grants to States to promote the use of source reduction techniques by businesses. In evaluating grant applications, the Act directs EPA to consider whether the proposed State program will:

i. Make technical assistance available to businesses seeking information about source reduction opportunities, including funding for experts to provide on-site technical advice and to assist in the development of source reduction plans.

ii. Target assistance to businesses for whom lack of information is an impediment to source reduction.

iii. Provide training in source reduction techniques.

III. Award Information

1. Availability of FY 2003 funds. With this publication, EPA is expecting the availability of $1 million in cooperative agreement funds for FY 2003. All funds are subject to availability at the time of award. These awards will be made through a competitive process for amounts not to exceed $150,000.00 per year. Proposals may include up to 3 years in their schedule and budget. Funding for multiple year proposals will be made incrementally, every year as funds are available. In the past 5 years the awards have averaged $121,000.00. Cooperative agreements are anticipated to be awarded by September 30, 2003. Substantial involvement by EPA in the cooperative agreement may include: The EPA project officer participating in monthly conference calls, consulting on the agenda for regional meetings, or attending steering committee meetings, etc. New applicants are encouraged to submit proposals. Proposals from existing P2Rx centers will compete with new proposals for new regional centers.

2. Catalogue of Federal Domestic Assistance. The number assigned to this program in the Catalogue of Federal Domestic Assistance is 66.708.

IV. Eligibility

1. Applicants. In accordance with the Pollution Prevention Act of 1990, eligible applicants for purposes of funding under this grant program include the 50 States, the District of Columbia, the U.S. Virgin Islands, the Commonwealth of Puerto Rico, any territory or possession of the United States, any agency or instrumentality of a State including State universities and all federally recognized Indian tribes that meet the requirement for treatment in a manner similar to a State at 40 CFR 35.663 and intertribal consortia that meet the requirements at 40 CFR 35.504. For convenience, the term “State” in this Notice refers to all eligible applicants. Local governments, private universities, private nonprofit, private businesses, and individuals are not eligible for funding. Eligible applicants are encouraged to establish partnerships with other environmental assistance providers to seamlessly deliver pollution prevention assistance. In many cases, partnerships can make the most efficient use of Federal/State government funding. In cases where applicants are not clear, an instrumentality of the State by given name, the applicant must provide proof that the applicant is indeed a State or interstate agency/organization.

2. Matching requirements. Under the Pollution Prevention Act of 1990, the Federal Government will provide up to half of the total allowable costs of the project, and the State will provide the remainder. For example, a project costing $200,000 could be funded by a grant for up to $100,000 from the Federal Government. The State is responsible for providing the remainder. State contributions may include cash, in-kind goods and services, and third party contributions.

V. Application and Submission Information

1. Preapplication coordination. This program is eligible for coverage under Executive Order 12372 “Intergovernmental Review of Federal Programs” (and the review requirements of section 204 of the Demonstration Cities and Metropolitan Development Act). An applicant should consult the Office or official designated as the single point of contact in his or her State for more information on the process the State requires to be followed in applying for assistance, if the State has selected the program for review. The single point of contact must notify in writing, the Grants Administration Division of the Environmental Protection Agency whether their State's official Executive Order 12372 process will review applications in this program within 30 days of this Federal Register Notice.

2. Preapplication assistance. Federal forms that should be included in the proposal are: Application for Federal Assistance OMB Form 424; Budget Information Form 424A; Construction Assurances Form 424B: Certification Regarding Debarment, etc., Form 5700-49; Certification Regarding Lobbying; and EPA Civil Rights Form 4700-4. Forms can be obtained at http://www.epa.gov/ogd/AppKit/application.htm. Requests for forms, examples of currently funded cooperative agreements, or other questions should be made to the contact listed under the heading For Further Information Contact.

3. Activities to be funded. EPA is inviting proposals from the existing P2Rx centers as well as requesting new applicants, who will coordinate their proposed work with the existing P2Rx centers. EPA is seeking proposals that will contribute to the organization and efficient retrieval of P2 information. New applicants will work with existing P2Rx centers and provide their own unique areas of expertise as part of their national collaboration. For instance, the P2Rx centers have developed agreements on data base structure, data base fields, keywords and use of P2 thesaurus to facilitate P2 information sharing nationally. Proposals may also include tasks supporting State and local P2 information activities such as: Creating web sites, listserves, training, meetings, etc. Proposals should be coordinated with existing P2Rx centers, where possible.

i. Promote multimedia pollution prevention. Proposals should describe how tasks will encourage source reduction to prevent pollution across all environmental media: Air, water, and land. Applicants should identify the areas of P2 expertise they will develop and collect resources as well as disseminate information on these areas. Current P2Rx centers have developed a specific format for the presentation and dissemination of P2 information to assistance providers. The home page for P2Rx at http://www.p2rx.org shows the topic hubs currently available nationally. See http://www.p2rx.org/AdminInfo/THFuncSpec.cfm for information describing a “topic hub.”

ii. Describe how activities will advance State or regional environmental goals. Areas of expertise described above should address State and regional environmental concerns. Proposals should identify how the tasks will provide information resources and services to address regional environmental concerns. Proposals should describe the process used to identify area(s) of specialization and identify the State or local programs consulted. Some current P2Rx centers use steering or advisory committees composed of representatives from the State, local, or business programs.

iii. Promote partnerships. The proposal should identify major environmental assistance providers in the area and proposed tasks targeting these organizations. These tasks should leverage expertise of other P2Rx centers and aim to reduce duplication of effort in developing environmental assistance expertise and information products with other assistance providers. The P2Rx centers have formed their own national network and identified the duties of a partner center in the “center criteria standard” found at: http://www.p2rx.org/AdminInfo/criteria.cfm. Activities in the P2Rx national partnership include participation in national meetings, monthly conference calls, subcommittees, and face-to-face meetings, implementation of standards, maintaining accurate web site information and participating in collecting center activity measures twice a year. The P2Rx program coordinator works with the P2Rx centers to facilitate communication, promote discussion, and resolve issues.

EPA continues to seek more cooperation among State pollution prevention programs and the other assistance providers. Partnerships are encouraged with State, regional and national programs such as National Institute of Standards and Technology Manufacturing Extension Partnership programs, Office of Enforcement and Compliance Assistance supported Compliance Assistance Centers, EPA's Small Business Assistance Programs, and the Small Business Development Centers, etc. Some of the current P2Rx centers are co-located with these other assistance providers. Co-location can promote improved communication and sharing of information and resources.

iv. Identifiable measures of success. Applicants are encouraged to identify how and what criteria they are using to track the effectiveness of each proposed task. Measures of success could be measures of direct environmental improvement or should be directly linked to such measures. Many of the EPA regional offices have negotiated with their States measurement structures which may provide some appropriate measures for use by P2 information assistance programs. The P2Rx centers have agreed to specific activity and web site usage measures for reporting twice a year. Measures of P2Rx services as described at this URL: http://www.p2rx.org/AdminInfo/activityMe.cfm. This URL describes the web activity measures that the P2rx centers currently collect: http://www.p2rx.org/AdminInfo/WebMeasure.cfm. These measures are submitted to the P2Rx program coordinator twice a year and are combined to provide a national report on P2Rx activities.

Applicants should propose some way of utilizing State representatives to guide, evaluate, and provide feedback on the information services the applicant is proposing. Applicants are encouraged to make use of existing regional organizations to provide feedback over the course of the grant. Monthly conference calls, meetings tied into existing regional meetings, or web site comments could be used as a source of customer feedback.

4. Content and format of proposal. The Standard Form 424, 424A, and other forms as provided by EPA must be used for this program. The proposal should:

i. Identify the lead agency applying for funds, other involved agencies and key contacts.

ii. Describe the problem or issues the proposal will address and the current status of P2 efforts on this problem in the State or region.

iii. Summarize the project strategy, objectives, goals, and measures of success.

iv. Provide a schedule for implementation which specifies the tasks, estimated cost, deliverables, and estimated due dates.

v. A budget indicating the funding requested and the matching resources for the proposal. Requested Federal dollars must be matched by at least an equal value of funds and/or in-kind goods and services.

vi. Describe the experience of key project personnel and the organization's capabilities and experience as it relates to the proposed tasks.

vii. Provide the specific format for reporting measures or activities that reflect the effectiveness of each of the proposed tasks.

viii. Include completed standard application forms: SF 424 and SF 424A.

ix. Include at least two letters of support from State or other programs which provide technical assistance.

VI. Review and Selection Process

1. Review process. A national panel, comprised of EPA representatives from both Headquarters and the EPA Regions, will evaluate each proposal. EPA will review all proposals for quality, strength, and completeness against the criteria described below.

2. Criteria for selecting a proposal. Acceptable proposals must meet the eligibility requirements in Unit IV. EPA is seeking proposals that will contribute to the organization and efficient retrieval of P2 information. EPA will consider the regional location of the proposed center, in order to ensure that P2 information derived from all of the United States is included in the Pollution Prevention Information Network. Below are listed seven criteria used to evaluate proposals. Proposals may receive up to 100 points maximum.

i. Project description and justification. The proposal presents a clear description of the areas of expertise and/or P2 information products to be developed that will address State and regional environmental concerns. Justification is given for how these services will address regional environmental concerns. (15 points)

ii. Project objectives. The proposal specifies realistic goals or objectives to advance P2/multi-media solutions to address regional environmental concerns. (10 points)

iii. Project strategy. The proposal includes a well-conceived strategy to achieve the project goals and objectives and a proposed schedule for execution of the tasks associated with each goal. (15 points)

iv. Project management. The proposal identifies and describes qualifications of key personnel. Proposals identify other environmental assistance providers committed to the tasks. Proposals leverage expertise of other P2Rx centers and other assistance providers to reduce duplication of effort in developing information products. (15 points)

v. Identified measures for project. The proposal contains clear measures of success. Proposals identify criteria used to track the effectiveness of each proposed task and include the specific format for reporting measures. (20 points)

vi. Budget. The proposal includes a budget indicating the funding requested and the matching resources. Requested Federal dollars must be matched by at least an equal value of funds and/or in-kind goods and services. The description demonstrates effective and judicious use of Federal funds. (15 points)

vii. Partnerships. The proposal utilizes State, local and regional representatives to guide, evaluate, and provide feedback on the products and services the regional center proposes. (10 points)

3. Anticipated award date. Cooperative agreements will be awarded by September 30, 2003. EPA reserves the right to reject all proposals and make no awards. Any dispute will follow the process in accordance with 40 CFR 30.63 and part 31, subpart F.

VII. Post Award Reporting

1. Reports. Organizations that are awarded grant funds will be required to submit semi-annual progress reports, during the life of the project, to the EPA Project Officer and EPA Headquarters coordinator. Each report will summarize funds expended, tasks accomplished, and results achieved to date. A specific format for reporting P2 information center activities (http://www.p2rx.org/AdminInfo/activityMe.cfm) and web site usage (http://www.p2rx.org/AdminInfo/WebMeasure.cfm ) has been developed. A summary final grant report will also be due 90 days after the end of the project period. This final report should include a discussion of the prospects for continuation, project evaluation, and future direction.

2. Audits. Periodic audits should be made as part of the recipient's system of financial management and internal control to meet terms and conditions of grants and other agreements. In accordance with the provisions of OMB Circular No. A-133, “Audits of States, Local Governments, and Nonprofit Organizations,” nonfederal entities that receive financial assistance of $300,000 or more within the State's fiscal year shall have an audit made for that year. The Office of Management and Budget (OMB) Circular No. A-133, “Audits of States, Local Governments, and Nonprofit Organizations,” was published in the Federal Register of June 30, 1997 (62 FR 35302). The Circular implements the Single Audit Act amendments of 1996. State agencies that receive less than $300,000 within the State's fiscal year shall have an audit made in accordance with Federal laws and regulations governing the programs in which they participate.

3. Records. Financial records, including all documents to support entries on accounting records to substantiate charges to each grant, must be kept available to personnel authorized to examine EPA grant accounts. All records must be maintained for 3 years from the date of submission of the annual financial status report. If questions still remain, such as those raised as a result of an audit, related records should be retained until the matter is completely resolved.

VIII. Congressional Review Act

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This is not a “major rule” as defined by 5 U.S.C. 804(2).

List of Subjects

Environmental protection, Grant administration, Grants, pollution prevention.

Dated: March 11, 2003.
Susan B. Hazen,
Acting Assistant Administrator, Office of Prevention, Pesticides and Toxic Substances.

[FR Doc. 03-6820 Filed 3-20-03; 8:45 am]

BILLING CODE 6560-50-S